DEPARTMENT OF AGRICULTURE

Food and Nutrition Service

Agency Information Collection Activities: Proposed Collection; Comment Request; Generic Clearance To Conduct Formative Research for Development of Nutrition Education Materials and Related Tools for Food and Nutrition Service Population Groups

AGENCY: Food and Nutrition Service, USDA.

ACTION: Notice.

SUMMARY: In accordance with the Paperwork Reduction Act of 1995, this notice invites the general public and other interested parties to comment on a proposed information collection. This information collection will conduct research in support of FNS' goal of delivering science-based nutrition education to targeted audiences. From development through testing of materials and tools with the target audience, FNS plans to conduct data collections that involve formative research including focus groups, interviews (dyad, triad, telephone, etc.), surveys and web-based collection tools.

DATES: Written comments must be received on or before August 11, 2003.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Judy F. Wilson, Director, Nutrition Services Staff, Food and Nutrition Service, U.S. Department of Agriculture, 3101 Park Center Drive, Room 1012, Alexandria, VA 22302. Comments may also be faxed to the attention of Judy F. Wilson at (703) 305-2576.

All written comments will be open for public inspection at the office of the Food and Nutrition Service during regular business hours (8:30 a.m. to 5 p.m., Monday through Friday) at 3101 Park Center Drive, Alexandria, Virginia 22302, Room 1012.

All responses to this notice will be summarized and included in the request for Office of Management and Budget (OMB) approval. All comments will be a matter of public record.

FOR FURTHER INFORMATION CONTACT: Requests for additional information should be directed to Judy F. Wilson, (703) 305-2585 or Marion Hinners, (703) 305-2116.

SUPPLEMENTARY INFORMATION: Title: Generic Clearance to Conduct Formative Research for Development of Nutrition Education Materials and Related Tools for FNS Population Groups.

OMB Number: Not yet assigned.

Expiration Date: N/A.

Type of Request: New collection.

Abstract: This information collection is based on the Child Nutrition Act of 1966, as amended, the National School Lunch Act of 1966, as amended, the Food Stamp Act of 1977, as amended, the Agriculture and Consumer Protection Act of 1973, as amended, and the Emergency Food Assistance Act of 1983, as amended. This request for approval of information collection is necessary to obtain input into the development of nutrition education interventions for population groups served by the U.S. Department of Agriculture—Food and Nutrition Service (USDA-FNS).

Diet has a significant impact on the health of citizens and is linked to four leading causes of disease, which can reduce the quality of life and cause premature death. While these diet-related problems affect all Americans, they have a greater impact on the disadvantaged populations reached by many of the FNS programs. One of FNS' goals includes improving the nutrition of children and low-income families by providing access to program benefits and nutrition education. The FNS programs include Child Nutrition, Food Distribution, Food Stamp and Supplemental Foods Programs.

The basis of our approach rests on the philosophies that all health communications and social marketing activities must be science-based, theoretically grounded, audience-driven, and results-oriented. Secondly, consumer-based health communications require a focus on specific target audiences, encouraging positive behaviors in culturally relevant ways, unique benefits and supports for adopting the new behavior, insights into the most appropriate time and place to deliver messages, and striking the right tone to enhance attention and action to the message. Interventions need to be crafted in such a way that they can be delivered through different types of media and in an array of formats for diverse audiences.

FNS initiated a nutrition education and promotion campaign, entitled Eat Smart. Play Hard.™ (the Campaign) in FY 2000 (OMB number 0584-0502). The Campaign is designed to convey science-based, behavior-focused nutrition messages about healthy eating and physical activity to children eligible to participate in FNS nutrition assistance programs and their caregivers. The messages are based on the 2000 Dietary Guidelines for Americans (DGAs) and the Food Guide Pyramid. A most recent approval was granted for information collection (OMB number 0584-0517) for four projects: Phase II of Eat Smart. Play Hard.™, Campaign Web Site Development, Cultural Adaptation of Campaign Materials for Hispanic Audiences and Dietary Guidelines Low-Literacy Materials Development. Future projects will support the Eat Smart. Play Hard.™ Campaign, which has been designated as a specific administration action in the President's Healthier US initiative.

Fundamental to FNS' success in delivering science-based nutrition messages and reaching diverse and low literacy segments of the population is obtaining qualitative feedback from key components of the target audience on the communication strategies and interventions that will be developed. This formative research is essential to advancing Eat Smart. Play Hard.™ as well as other FNS nutrition education efforts. Formative input and testing activities described will help in the development of more effective tools and communication strategies. Collection of this information will increase FNS' ability to formulate nutrition education interventions that resonate with the target population of low-income American families, who have the highest need and can derive the most benefit.

Formative research methods and information collection will include focus groups, interviews (dyad, triad, telephone, etc.), surveys and web-based information gathering tools. The data obtained will provide input regarding the potential use of materials and products during both the developmental and testing stages. In order to determine future nutrition education needs, tools and dissemination strategies, key informant interviews will be conducted. This task involves collecting a diverse array of information from a variety of groups including: Perspectives from people familiar with the target audiences; the objectives of nutrition education interventions and projects; program constraints at State and local levels; and related issues. Expert opinions from program constituencies, researchers, and practitioners will be collected through interviews, surveys and other methods. FNS will also collect information regarding effective nutrition education initiatives being implemented by State agencies that administer nutrition assistance programs to address critical nutrition issues.

Findings from all data collection will be included in summary reports submitted to USDA-FNS. The reports will describe the data collection methods, findings, conclusions, implications, and recommendations for the development and effective dissemination of nutrition education materials and related tools for FNS population groups. There will be no specific quantitative analysis of data. No attempt will be made to generalize the findings to be nationally representative or statistically valid.

Respondents: Recipients and those persons eligible for FNS nutrition assistance programs, State and local staff administering FNS programs, FNS stakeholders and consumers, and other interested parties.

Estimated Number of Respondents: 14,500.

Focus Group Screeners—2800

Interview Screeners/Surveys—1000

Focus Groups—1100

Intercept Interviews—500

Dyad/Triad Interviews—100

Telephone Interviews—1000

Confidentiality Agreement—7000

Survey Instruments—500

Web-based Collections—500

Number of Responses per Respondent: One.

Estimated Time per Response:

Focus Group Screeners—10 minutes

Interview Screeners/Surveys—10 minutes

Focus Groups—120 minutes

Intercept Interviews—30 minutes

Dyad/Triad Interviews—60 minutes

Telephone Interviews—15 minutes

Confidentiality Agreement—10 minutes

Survey Instruments—30 minutes

Web-based Collections—30 minutes

Estimated Total Annual Burden on Respondents:

Focus Group Screeners—28,000 minutes

Interview Screeners/Surveys—10,000 minutes

Focus Groups—132,000 minutes

Intercept Interviews—15,000 minutes

Dyad/Triad Interviews—6,000 minutes

Telephone Interviews—15,000 minutes

Confidentiality Agreement—70,000 minutes

Survey Instruments—15,000 minutes

Web-based Collections—15,000 minutes

Public reporting burden for this collection of information is estimated to average 14,500 respondents with a total estimated burden of 306,000 minutes or 5,100 hours.

Dated: June 2, 2003.
Roberto Salazar,
Administrator, Food and Nutrition Service.

[FR Doc. 03-14692 Filed 6-10-03; 8:45 am]

BILLING CODE 3410-30-P